DEPARTMENT OF THE INTERIOR

Bureau of Land Management

[WO-310-1310-01-24-1A-PB]

Information Collection Submitted to the Office of Management and Budget for Review Under the Paperwork Reduction Act

The Bureau of Land Management (BLM) has submitted the proposed collection of information listed below to the Office of Management and Budget (OMB) for approval under the provisions of the Paperwork Reduction Act (44 U.S.C. Chapter 3501 et seq.). On August 18, 2000, the BLM published a notice in the Federal Register (65 FR 50560) requesting comments on the collection. The comment period ended October 17, 2000. No comments were received. Copies of the proposed collection of information and related forms and explanatory material may be obtained by contacting the BLM Clearance Office at the telephone number listed below.

OMB is required to respond to this request within 60 days but may respond after 30 days. For maximum consideration, your comments and suggestions on the requirement should be made within 30 days directly to the Office of Management and Budget, Interior Department Desk Officer (1004-0137), Office of Information and Regulatory Affairs, Washington, DC 20503. Please provide a copy of your comments to the Bureau Clearance Officer (WO-630), 1849 C St., NW., Mail Stop 401 LS, Washington, DC 20240.

Nature of Comments

We specifically request your comments on the following:

1. Whether the collection of information is necessary for the proper functioning of the Bureau of Land Management, including whether the information will have practical utility;

2. The accuracy of BLM's estimate of the burden of collecting the information, including the validity of the methodology and assumptions used;

3. The quality, utility and clarity of the information to be collected; and

4. How to minimize the burden of collecting the information on those who are to respond, including the use of appropriate automated electronic, mechanical, or other forms of information technology.

Title: Well Completion or Recompletion Report and Log, (as required by 43 CFR Part 3160).

OMB Approval Number: 1004-0137.

Abstract: Data submitted by oil and gas operators is used for agency approval of specific additional operations on a well and to report the completion of such additional work.

Bureau Form Number: 3160-4.

Frequency: Nonrecurring.

Description of Respondents: Oil and gas operators.

Estimated Completion Time: 1 hour.

Annual Responses: 2,200.

Annual Burden Hours: 2,290.

Filing Fee Per Response: 0.

Bureau Clearance Officer: Michael Schwartz, (202) 452-5033.

Dated: November 18, 2000.
Michael Schwartz,
BLM Information Collection Clearance Officer.

[FR Doc. 00-30895 Filed 12-4-00; 8:45 am]

BILLING CODE 4310-84-M